DEPARTMENT OF COMMERCE

National Oceanic and Atmospheric Administration

FY 2015 Regional Coastal Resilience Grants Program

AGENCY: National Ocean Service (NOS), National Oceanic and Atmospheric Administration (NOAA), Department of Commerce.

ACTION: Notice of funding availability.

SUMMARY: The purpose of this notice is to announce the policies and application procedures for the FY 2015 Regional Coastal Resilience Grants Program. Awards made under this program will support eligible entities as they develop or implement activities that build resilience of coastal regions, communities, and economic sectors to the negative impacts from extreme weather events, climate hazards, and changing ocean conditions.

Funds will be available to support activities that: (1) Identify and address priority data, information, and capacity gaps; (2) develop tools, as needed, to inform sound, science-based decisions, which support regional efforts to plan for a resilient ocean and coastal economy; (3) acquire and integrate socioeconomic information with physical and biological information to improve the assessment of risk and vulnerability for planning and decision making; (4) understand how hazards and changing ocean conditions affect coastal economies, including existing and emerging sectors that depend on the ocean and coasts; (5) develop the information and approaches needed for improved risk communication, and the necessary tools, technical assistance and training tailored toward enhanced resilience to weather events, climate hazards, and changing ocean conditions; (6) evaluate the costs, benefits, and tradeoffs of systems-based development or redevelopment approaches that incorporate both natural defenses and hard structural solutions; or (7) support the development of sustainable recovery, redevelopment, and adaptation plans and implement programs and projects that incentivize rebuilding and development approaches which reduce risk and increase resilience.

See the full FY 2015 Regional Coastal Resilience Grants Federal Funding Opportunity (FFO), located on Grants.gov, as described in the ADDRESSES section, for a complete description of program goals and how applications will be evaluated. Note that this funding opportunity is one of two competitions being administered by NOAA to build coastal resilience. The companion competition, the Coastal Ecosystem Resiliency Grants program, is being administered by NOAA's National Marine Fisheries Service to implement projects that use a proactive approach to improve or restore coastal habitat to strengthen the resilience of communities, protected resources and fisheries.

DATES: Applications must be postmarked, provided to a delivery service, or received by www.Grants.gov by 11:59 p.m. Eastern Time on July 24, 2015. See also Section IV.C and F of the Regional Coastal Resilience Grants FFO.

ADDRESSES: Application packages for proposals are available through the apply function on Grants.gov by searching for Funding Opportunity Number NOAA-NOS-OCM-2015-2004324. If an applicant does not have Internet access, application packages shall be requested from Lisa Warr, 1305 East-West Hwy, N/OCM6, Silver Spring, MD 20910; or contact her at 301-563-1153 or via email to Lisa.S.Warr@noaa.gov.

FOR FURTHER INFORMATION CONTACT: For administrative or technical questions regarding this announcement, contact Lisa Warr, Office for Coastal Management, 1305 East-West Hwy, N/OCM6, Silver Spring, MD 20910; or contact her at 301-563-1153 or via email to Lisa.S.Warr@noaa.gov.

SUPPLEMENTARY INFORMATION:

Statutory Authority: Coastal Zone Management Act (16 U.S.C. 1456c), Section 310 (“Technical Assistance”).

Catalog of Federal Domestic Assistance (CFDA): 11.473

Program Description

As noted above, the purpose of this notice is to announce the policies and application procedures for the FY 2015 Regional Coastal Resilience Grants Program. Awards made under this program will support eligible entities as they develop or implement activities that build resilience of coastal regions, communities, and economic sectors to the negative impacts from extreme weather events, climate hazards, and changing ocean conditions. Successful applicants will develop proposals that plan or implement actions that mitigate the impacts of these environmental drivers on overall resilience, including economic and environmental resilience.

Proposals submitted in response to this announcement shall employ a regional approach that results in improved ability of multiple coastal jurisdictions to prepare for, absorb impacts of, recover from, and/or adapt to adverse events and changing environmental, economic, and social conditions. Proposals should demonstrate coordinated effort of multiple jurisdictions (e.g., states, tribes, territories, counties, municipalities, regional organizations, etc.) and/or state or local managed areas within a specified geographic region and involve the appropriate range of partners and stakeholders to ensure project success. Collaborative projects that leverage NOAA supported programs, products, partnerships or services and support federal, tribal, state, regional, county or local plans and partnerships are preferred. Also preferred are proposals that leverage other Administration priorities and other federal resilience investments.

Projects/proposals are expected to:

• Result in increased resilience of coastal communities through regional activities that reduce current and potential future risk associated with extreme weather events, climate hazards, and changing ocean conditions; increase capacity to recover from adverse events; and/or increase capacity to effectively adapt to adverse events;

• employ a regional approach that engages appropriate stakeholders and demonstrates collaboration and leveraging of resources;

• result in increased access to and/or understanding of information for decision makers regarding current and future environmental, economic, and social conditions and/or increased capacity to incorporate this type of information into decision/rule making across the project area.

Priority will be given to projects that:

• Focus on resilience strategies that address land and ocean use, development, resource management, resource protection, hazard mitigation, pre-disaster recovery, or other similar plans. This includes the creation of new tools, training, workshops, or other resources that build capacity of decision makers or practitioners;

• leverage available resources (such as programs, plans, partnerships, tools and trainings across government, industry, and NGOs) and/or leverage Federal funding with direct or in-kind match from non-Federal sources;

• evaluate project results using clear measure(s) of success and monitor longer-term effectiveness of employed strategies where appropriate. The collection of additional data or information for monitoring effectiveness is eligible; however, only for the duration of the award's period of performance. If data collection is proposed, applicants are encouraged to plan for longer-term data management needs in coordination with NOAA.

The funding instrument for awards may be a grant or cooperative agreement. In the case of a cooperative agreement, NOAA will have substantial involvement in the project. If NOAA is proposed as a partner in a cooperative agreement, the applicant must clearly identify this funding instrument in the proposal summary and cover sheet and clearly articulate the roles and responsibilities of NOAA and each partner in implementing the project.

Section IV.B. of the FFO describes the complete standard NOAA financial assistance application package and suggested information to include in the proposal.

This competition is one of two competitions being administered by NOAA to build coastal resilience. The companion competition, Coastal Ecosystem Resilience Grants, is being administered by NOAA's National Marine Fisheries Service (NMFS) to improve the resiliency of ocean and coastal ecosystems. The FFO for this program can also be found on www.Grants.gov.

Funding Availability

Total anticipated funding for all awards is up to $5,000,000 for FY 2015. NOAA anticipates funding approximately 5-10 awards. The maximum amount that may be requested for the Federal share of each proposal is $1,000,000 and the minimum that may be requested is $500,000. The amount of funding per project will depend on the size, location, and type of project. There is no limit on the number of proposals from any geographic area or jurisdiction. The exact amount of funds for each award will be determined in pre-award negotiations between the applicant and NOAA representatives. Applicants must be in good standing with all existing NOAA grants in order to receive funds. Proposals not funded in the current fiscal period may be considered for funding in another fiscal period without NOAA repeating the competitive process outlined in this announcement.

Eligibility

Eligible funding applicants are: Regional organizations (see Section III.C of the FFO for explanation), nonprofit organizations, private (for-profit) entities, institutions of higher education, and state, territorial, tribal, and local governments as defined at 2 CFR 200.64, which includes counties, municipalities, and cities. The funding applicants must conduct projects benefiting coastal communities in one or more of the following U.S. states and territories: Alabama, Alaska, American Samoa, California, Connecticut, Delaware, Florida, Georgia, Guam, Hawaii, Illinois, Indiana, Louisiana, Maine, Maryland, Massachusetts, Michigan, Minnesota, Mississippi, New Hampshire, New Jersey, New York, North Carolina, Northern Mariana Islands, Ohio, Oregon, Pennsylvania, Puerto Rico, Rhode Island, South Carolina, Texas, Virginia, Virgin Islands (U.S.), Washington, and Wisconsin. Applications from individuals, federal agencies, or employees of federal agencies will not be considered, but these entities may serve as collaborative project partners. If federal agencies are collaborators, applicants must provide detail on the expected level of federal engagement in the application. The lead applicant on any proposal will be responsible for ensuring that allocated funds are used for the purposes of, and in a manner consistent with, this program, including any funds awarded to an eligible sub-awardee.

Cost Sharing Requirements

Federal funds awarded under this program must be matched with non-Federal funds (through cash or in-kind services) at a 2:1 ratio of Federal to non-Federal contributions.

Evaluation and Selection Procedures

The general evaluation criteria and selection factors that apply to full applications to this funding opportunity are summarized below. Further information about the evaluation criteria and selection factors can be found in the full FFO announcement in www.Grants.gov. (Funding Opportunity Number NOAA-NOS-OCM-2015-2004324)

Evaluation Criteria

Reviewers will assign scores to applications ranging from 0 to 100 points based on the following five standard NOAA evaluation criteria and respective weights specified below. Applications that best address these criteria will be the most competitive.

1. Importance and/or relevance and applicability of proposed project to the program goals (35 points): This ascertains whether there is intrinsic value in the proposed work and/or relevance to NOAA, federal, regional, state, tribal, or local activities. Projects/proposals will be evaluated according to the degree to which they:

• Support activities that are likely to reduce current and potential future risk to regions, communities, and existing and emerging sectors associated with extreme weather events, climate hazards, and changing ocean conditions; increase capacity to recover from adverse events; or increase capacity to effectively adapt to adverse events (10 points);

• employ a regional approach that engages a range of stakeholders and demonstrates collaboration and leveraging of resources, as evidenced by letters of collaboration from partners and community members (10 points);

• improve access to and/or understanding of information for decision makers regarding current and future environmental, economic, and social conditions and improve capacity to incorporate this information into planning and decision/rule making across the project area (10 points);

• support other NOAA and Administration priorities (5 points).

2. Technical and scientific merit (20 points): This criterion assesses whether the approach is technically sound and/or innovative, if the methods are appropriate, and whether there are clear project goals and objectives. For this competition, projects/proposals will be evaluated according to the degree to which:

• The approach is fully described and the stated goals and objectives are technically sound, safe for the public, and use the appropriate methods and personnel, including any methods to evaluate results and monitor effectiveness, and methods outlined in the Data Sharing Plan (7 points);

• the project supports strategies called for or developed by regional, federal, state, tribal or local entities including but not limited to land and ocean use, development, resource management, resource protection/restoration, hazard mitigation, pre-disaster recovery, or other similar plans (8 points); and

• the project leverages available resources, such as programs, plans, partnerships, tools and trainings within NOAA and across government, industry, and NGOs (5 points).

3. Overall qualifications of the funding applicants (20 points): This criterion ascertains whether the funding applicant possesses the necessary education, experience, training, facilities, and administrative resources to accomplish the project. For this competition, projects/proposals will be evaluated according to the degree to which:

• An applicant demonstrates the capacity (e.g. staffing, resources, expertise and authority) and experience in successfully completing similar projects (12 points); and

• the project involves the appropriate partners to execute the project, as well as the key personnel from other agencies and institutions partnering on the project with the experience, expertise and/or networks needed to capitalize on available expertise (8 points).

4. Project costs (15 points). This criterion evaluates the budget to determine if it is realistic and commensurate with the project needs and time-frame. For this competition, projects/proposals will be evaluated according to the degree to which:

• The budget request is reasonable, the applicant justifies the costs requested, and the requested funds for salaries and fringe benefits are for those personnel directly involved in implementing the proposed project and/or are directly related to specific products or outcomes of the proposed project (6 points);

• the project optimizes the cost effectiveness of the project to leverage Federal resources through strategic partnerships with collaborating institutions, agencies, or other entities (5 points); and,

• indirect costs are based on the indirect cost rate negotiated and approved by the applicant's cognizant agency for indirect costs and that other administrative costs have been minimized to the extent possible (4 points).

5. Outreach and Education (10 points): This criterion assesses whether the project provides a focused and effective education and/or outreach strategy regarding the NOAA's mission to understand and protect the Nation's natural resources. For this competition, this strategy should describe approaches for communicating with various audiences and employ best practices for risk communication. Projects/proposals will be evaluated according to the degree to which:

• Engagement: The proposal demonstrates that the public and project stakeholders will be engaged in development of the desired project outcomes (8 points); and

• Outreach: The proposal demonstrates that information generated by the project will reach its target audience and have a positive impact in the project area(s), including improved risk communication. (2 points).

Review and Selection Process

Screening, review, and selection procedures will take place in three steps: (1) An initial screening by competition program staff within NOAA's Office for Coastal Management; (2) a merit review; and (3) final selection by the Selecting Official (i.e., Director of the Office for Coastal Management or the Director's designee). The merit review step will involve at least three reviewers per application. The Selecting Official will make the final decision regarding which applications will be funded based on the numerical ranking of the applications, the evaluations by the merit reviewers, and the selection factors set in Section V.C. of the FFO. (1) Initial Screening. The initial screening will ensure that application packages have all required forms and application elements and meet all of the eligibility criteria. Applications that pass this initial screening will be submitted for merit review. (2) Merit Review. Eligible applications for this competition will be evaluated in accordance with the criteria and weights described in this solicitation by at least three independent peer reviewers through an independent peer mail review and/or an independent peer panel. (3) Final Selection. The competition program staff will create a ranking of the proposals to be recommended for funding using the average merit review or panel review scores, if a panel review is conducted. The Selecting Official shall award in the rank order unless the proposal is justified to be selected out of rank order based upon one or more of the following factors: (1) Availability of funding; (2) balance/distribution of funds: (a) Geographically, (b) by type of institutions, (c) by type of partners, (d) by research areas, or (e) by project types; (3) whether the project duplicates other projects funded or considered for funding by NOAA or other agencies; (4) program priorities and policy factors as described in Section I.A. and I.B. of the FFO; (5) an applicant's prior award performance; (6) partnerships and/or participation of targeted groups; (7) adequacy of information necessary for NOAA staff to make a NEPA determination and draft necessary documentation before recommendations for funding are made to the NOAA Grants Officer. The Selecting Official or designee may negotiate the funding level of the proposal.

Intergovernmental Review

Applications under the FFO are subject to Executive Order 12372, “Intergovernmental Review of Programs.” For states that participate in this process, it is the state agency's responsibility to contact their state's Single Point of Contact (SPOC) to find out about and comply with the state's process under Executive Order 12372. To assist the applicant, the names and addresses of the SPOCs are listed on the Office of Management and Budget's Web site http://www.whitehouse.gov/omb/grants_spoc.

Limitation of Liability

In no event will NOAA or the Department of Commerce be responsible for proposal preparation costs if these programs fail to receive funding or are cancelled because of other agency priorities. Publication of this announcement does not oblige NOAA to award any specific project or to obligate any available funds.

National Environmental Policy Act

NOAA must analyze the potential environmental impacts, as required by the National Environmental Policy Act (NEPA), for applicant projects or proposals which are seeking NOAA federal funding opportunities. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). Applicants may also be requested to assist NOAA in drafting of an environmental assessment, if NOAA determines an assessment is required, or in identifying feasible measures to reduce or avoid any identified adverse environmental impacts of their proposal. The failure to do so shall be grounds for not selecting an application. Further details regarding NOAA's compliance with NEPA can be found in the full Federal Funding Opportunity.

The Department of Commerce Pre-Award Notification Requirements for Grants and Cooperative Agreements

The Department of Commerce Pre-Award Notification Requirements for Grants and Cooperative Agreements contained in the Federal Register notice of December 30, 2014 (79 FR 78390), are applicable to this solicitation.

Paperwork Reduction Act

The FFO contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001. Notwithstanding any other provision of law, no person is required to, nor shall a person be subject to a penalty for failure to comply with, a collection of information subject to the requirements of the PRA unless that collection of information displays a currently valid OMB control number.

Executive Order 12866

This notice has been determined to be not significant for purposes of Executive Order 12866.

Executive Order 13132

It has been determined that this notice does not contain policies with federalism implications as that term is defined in Executive Order 13132.

Dated: May 13, 3015.
Christopher C. Cartwright,
Associate Assistant Administrator for Management and CFO/CAO, Ocean Services and Coastal Zone Management, National Oceanic and Atmospheric Administration.

[FR Doc. 2015-11956 Filed 5-15-15; 8:45 am]

BILLING CODE 3510-22-P